DEPARTMENT OF ENERGY

Federal Energy Regulatory Commission

[Docket No. AC04-7-000, et al.]

Portland General Electric Company, et al.; Electric Rate and Corporate Filings

December 19, 2003.

The following filings have been made with the Commission. The filings are listed in ascending order within each docket classification.

1. Portland General Electric Company

[Docket No. AC04-7-000]

Take notice that on December 3, 2003, Portland General Electric Company (Portland) tendered for filing a request for waiver or extension of time to comply with the Commission's Uniform System of Accounts pertaining to natural gas pipeline companies, and the requirements for filing a FERC Form 2-A by non-major gas pipeline companies. Portland states that this request is necessitated by the change in status of Portland's facilities in the Kelso-Beaver Pipeline from pipeline facilities only serving the plant owned by Portland, to an open access gas pipeline.

Comment Date: January 5, 2004.

2. American Transmission Company LLC

[Docket No. EC04-37-000]

Take notice that on December 12, 2003, American Transmission Company LLC (ATCLLC) tendered for filing an Application for Authority to Acquire Transmission Facilities Under Section 203 of the Federal Power Act. ATCLLC requests that the Commission authorize ATCLLC to acquire ownership of certain transmission facilities from the City of Reedsburg, Wisconsin. ATCLLC requests Commission authorization within 30 days of the date of the Application.

Comment Date: January 2, 2004.

3. Duke Energy Marketing America, LLC and Engage Energy, LLC

[Docket No. EC04-38-000]

Take notice that on December 12, 2003, Duke Energy Marketing America, LLC (DEMA) and Engage Energy, LLC (Engage) filed with the Federal Energy Regulatory Commission an application pursuant to section 203 of the Federal Power Act for authorization of DEMA's acquisition of Engage.

Comment Date: January 2, 2004.

4. Sweetwater Wind 1 LLC

[Docket No. EG04-22-000]

On December 16, 2003, Sweetwater Wind 1 LLC (SWW1), a Delaware limited liability company with its principal place of business in Houston, Texas, filed with the Federal Energy Regulatory Commission an application for determination of exempt wholesale generator status pursuant to part 365 of the Commission's regulations.

SWW1 states it intends to operate a 37.5-MW wind powered generation facility currently under construction near Sweetwater, Nolan County, Texas (the Facility). SWW1 also states that when completed, the electric energy produced by the Facility will be sold into the wholesale power market of the Electric Reliability Council of Texas and that the Facility is expected to begin commercial operation by December 31, 2003.

Comment Date: January 6, 2004.

5. City of Azusa, California

[Docket No. EL04-35-000]

Take notice that on December 12, 2003, the City of Azusa, California (Azusa) submitted for filing changes to its Transmission Revenue Balancing Account Adjustment (TRBAA) and to Appendix I of its Transmission Owner (TO) Tariff. Azusa requests a January 1, 2004, effective date for its filing. Azusa further requests that the Commission waive any fees for the filing of its revised TRBAA.

Comment Date: January 8, 2004.

6. ISO New England Inc.

[ER02-2330-020]

Take notice that on December 12, 2003, ISO New England Inc. (ISO) submitted a Compliance Filing in the above-captioned proceeding as directed by the Commission in its August 14, 2003, Order Accepting Information Report, 104 FERC ¶ 61,206. The ISO states that copies of the filing have been served on all parties to the above-captioned proceeding.

Comment Date: January 2, 2004.

7. Carolina Power & Light Company d/b/a and Progress Energy Carolinas, Inc.

[Docket Nos. ER03-414-003 and ER03-415-003]

Take notice that on December 12, 2003, Carolina Power & Light Company d/b/a Progress Energy Carolinas, Inc. tendered for filing revised facility interconnection and operating agreements with Cogentrix of North Carolina, Inc. in accordance with Commission Orders dated March 7, 2003, and November 18, 2003.

Progress Energy Carolinas, Inc. states that a copy of the filing was served upon the North Carolina Utilities Commission and the South Carolina Public Service Commission.

Comment Date: January 2, 2004.

8. American Transmission Company LLC

[Docket No. ER03-1211-002]

Take notice that on December 11, 2003, American Transmission Company LLC (ATCLLC) tendered for filing a revised Generation-Transmission Interconnection Agreement between ATCLLC and Fox Energy Company LLC (Second Revised Service Agreement No. 233) consisting of amendments to Exhibit 11. ATCLLC requests retention of the original effective date of January 15, 2002. ATCLLC states that this is a refiling of the same revisions contained in ATCLLC's August 14, 2003, filing in a format complying with the Commission's conditional acceptance in its September 23, 2003, Letter Order and deleting certain extraneous documents.

Comment Date: December 31, 2003.

9. CenterPoint Energy Houston Electric, LLC

[Docket No. ER04-41-001]

Take notice that on December 15, 2003, CenterPoint Energy Houston Electric, LLC (CenterPoint Houston) submitted for filing a revision of the Table of Contents to its Transmission Service Tariff, reflecting the addition of the Form of Transmission Service Agreement.

Comment Date: January 5, 2004.

10. The Dayton Power and Light Company

[Docket No. ER04-77-001]

Take notice that on December 12, 2003, the Dayton Power and Light Company (Dayton), Cincinnati Gas and Electric Company (CG&E) and Columbus Southern Power Company (CSP) (together CCD) amended a submission made October 21, 2003, in Docket No. ER04-77-000 tendering an Interconnection Agreement between DP&L, CG&E, CSP and East Kentucky Power Cooperative.

Comment Date: January 2, 2004.

11. New England Power Pool

[Docket Nos. ER04-195-001]

Take notice that on December 12, 2003, the New England Power Pool (NEPOOL) Participants Committee submitted an informational filing to notify the Commission that as of December 5, 2003, NEPOOL, ISO New England Inc. and NRG Power Marketing Inc. (NRG Power), acting on behalf of itself and several affiliates, entered into an agreement to amend the Restated Weekly Billing Agreement filed in Docket No. ER04-195-000 on November 17, 2003.

The NEPOOL Participants Committee states that copies of these materials were served on the governors and electric utility regulatory agencies for the six New England states and each person designated on the official service list compiled by the Secretary in the captioned docket and NEPOOL Participants Committee members have been furnished with an electronic copy of this filing.

Comment Date: January 2, 2004.

12. CPV Milford, LLC

[Docket No. ER04-222-002]

Take notice that on December 16, 2003, CPV Milford, LLC tendered for filing an amendment to the application for market-based rates pursuant to section 205 of the Federal Power Act submitted on November 24, 2003, in Docket No. ER04-222-000.

Comment Date: December 29, 2003.

13. PJM Interconnection, L.L.C.

[Docket No. ER04-281-000]

Take notice that on December 12, 2003, PJM Interconnection, L.L.C. (PJM), submitted for filing an interconnection service agreement (ISA) among PJM, Exelon Generation Company, LLC, PSEG Nuclear LLC, and PECO Energy Company and a notice of cancellation for an Interim ISA that has been superseded.

PJM requests a waiver of the Commission's 60-day notice requirement to permit a November 12, 2003, effective date for the ISA.

PJM states that copies of this filing were served upon the parties to the agreements and the state regulatory commissions within the PJM region.

Comment Date: January 2, 2004.

14. Midwest Independent Transmission System Operator, Inc.

[Docket No. ER04-282-000]

Take notice that on December 12, 2003, the Midwest Independent Transmission System Operator, Inc. (Midwest ISO) pursuant to section 205 of the Federal Power Act and section 35.12 of the Commission's regulations, 18 CFR 35.12, submitted for filing an Interconnection and Operating Agreement among Simon Industries, Inc., the Midwest ISO and Northern States Power, d/b/a Xcel Energy.

The Midwest ISO states that a copy of this filing was served on all parties.

Comment Date: January 2, 2004.

15. Agway Energy Services, Inc.

[Docket No. ER04-283-000]

Take notice that on December 12, 2003, Agway Energy Services, Inc. (Agway) tendered for filing a Notice of Cancellation of its market-based authority. Agway has requested an effective date of December 15, 2003.

Comment Date: January 2, 2004.

16. Agway Energy Services—PA, Inc.

[Docket No. ER04-284-000]

Take notice that on December 12, 2003, Agway Energy Services—PA, Inc. (Agway) tendered for filing a Notice of Cancellation of its market-based authority. Agway has requested an effective date of December 15, 2003.

Comment Date: January 2, 2003.

17. Southern California Edison Company

[Docket No. ER04-285-000]

Take notice that on December 12, 2003, Southern California Edison Company (SCE) tendered for filing revised rate sheets (Revised Sheets) to the Interconnection Facilities Agreement (Interconnection Agreement) between the City of Industry, California (Industry) and SCE, Service Agreement No. 49 under SCE's Wholesale Distribution Access Tariff, FERC Electric Tariff First Revised Volume No. 5. SCE states that the purpose of the Revised Sheets is to reflect, among other things, the terms and conditions associated with the additional facilities required to provide 7.2 MW of Distribution Service to Industry for its Wholesale Distribution Load at the East Business Center.

SCE states that copies of this filing were served upon the Public Utilities Commission of the State of California and Industry.

Comment Date: January 2, 2004.

18. California Independent System Operator Corporation

[Docket No. ER04-286-000]

Take notice that, on December 12, 2003, the California Independent System Operator Corporation (ISO) submitted an informational filing in accordance with Article IX, section B of the Stipulation and Agreement approved by the Commission on May 28, 1999, California Independent System Operator Corp., 87 FERC ¶ 61,250 (1999) (Stipulation and Agreement). The ISO states that this provision requires the ISO to provide on a confidential basis to the Commission: (i) Information regarding any notice from an RMR Unit requesting a change of Condition; (ii) the date the chosen Condition will begin; and (iii) if the change is from Condition 2, the applicable level of Fixed Option Payment. The ISO states it has provided notice of the changes of condition described in the informational filing (subject to the applicable Non-Disclosure and Confidentiality Agreement in the RMR Contract) to the designated RMR contact persons at the California Agencies, the applicable Responsible Utilities, and the relevant RMR Owners.

Comment Date: January 2, 2004.

19. PacifiCorp

[Docket No. ER04-287-000]

Take notice that on December 12, 2003, pursuant to section 205 of the Federal Power Act, 16 U.S.C. 824d, and part 35 of the Federal Energy Regulatory Commission's regulations, 18 CFR 35, PacifiCorp tendered for filing the following jurisdictional agreements:

1. Generation Interconnection Agreement dated December 14, 2001, between PacifiCorp and FPL Energy Vansycle, L.L.C. (Interconnection Agreement); and

2. Letter Agreement dated January 22, 2001, between PacifiCorp and FPL Energy Vansycle, L.L.C. and related invoice dated December 10, 2001 (collectively, the Letter Agreement).

PacifiCorp states that the Interconnection Agreement and Letter Agreement are being filed as service agreements under PacifiCorp's Open Access Transmission Tariff (FERC Electric Tariff, Fourth Revised Volume No. 11), and are designated as Service Agreement Nos. 276 and 277, respectively.

Comment Date: January 2, 2004.

20. The Cincinnati Gas & Electric Company

[Docket No. ER04-288-000]

Take notice that on December 15, 2003, The Cincinnati Gas & Electric Company (CG&E) filed a short-form market-based rate tariff. CG&E requests waiver of the Commission's prior notice requirements to allow the proposed tariff to become effective on or before January 31, 2004.

Comment Date: January 5, 2004.

21. DJGW, LLC

[Docket No. ER04-289-000]

Take notice that on December 15, 2003, DJGW, LLC (DJGW) tendered for filing a Petition for Acceptance of Initial Rate Schedule, Rate Schedule FERC No. 1; the grant of certain blanket approvals; and the waiver of certain Commission regulations.

Comment Date: January 5, 2004.

22. Meyersdale Windpower LLC

[Docket No. ER04-290-000]

Take notice that on December 15, 2003, Meyersdale Windpower LLC tendered for filing an application for authorization to sell energy and capacity at market-based rates pursuant to section 205 of the Federal Power Act.

Comment Date: January 5, 2004.

23. Northeast Utilities Service Company, Holyoke Water Power Company, and Holyoke Power and Electric Company

[Docket No. ER04-291-000]

Take notice that on December 15, 2003, Northeast Utilities Service Company (NUSCO) on behalf of its affiliates, Holyoke Water Power Company (HWP) and Holyoke Power and Electric Company (HP&E), tendered for filing: (1) A revised rate schedule sheet extending the term of an agreement between HWP and HP&E for the sale of HWP's power output from Mt. Tom power plant; and (2) a revised rate schedule sheet extending the term of an agreement between HP&E and Select Energy, Inc. for the sale of HP&E's power entitlement to the output of Mt. Tom. NUSCO requests an effective date of December 31, 2003, or such other earliest date as permitted by the Commission.

NUSCO states that a copy of this filing was mailed to Holyoke Water Power Company, Holyoke Power and Electric Company and Select Energy, Inc.

Comment Date: January 5, 2004.

24. Bravo Energy Resources, LLC.

[Docket No. ER04-292-000]

Take notice that on December 15, 2003, Bravo Energy Resources, LLC (Bravo) petitioned the Commission for acceptance of Bravo Rate Schedule FERC Electric Tariff Original Volume No. 1; the granting of certain blanket approvals, including the authority to sell electricity at market-based rates; and the waiver of certain Commission regulations.

Bravo states that it intends to engage in wholesale electric power and energy purchases and sales as a marketer. Bravo is not in the business of generating or transmitting electric power.

Comment Date: January 5, 2003.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's web site under the “e-Filing” link. The Commission strongly encourages electronic filings.

Magalie R. Salas,
Secretary.

[FR Doc. E3-00665 Filed 12-31-03; 8:45 am]

BILLING CODE 6717-01